NUCLEAR REGULATORY COMMISSION

Advisory Committee on Reactor Safeguards (ACRS) Meeting of the Subcommittee on Plant Operations and Fire Protection

The ACRS Subcommittee on Plant Operations and Fire Protection will hold a meeting on July 29, 2010, at the U.S. NRC Region IV, Texas Health Resources Tower, 612 E. Lamar Blvd., Suite 400, Arlington, TX 76011-4125.

The entire meeting will be open to public attendance.

The agenda for the subject meeting shall be as follows:

Thursday, July 29, 2010—8:30 a.m. until 2 p.m.

The Subcommittee will meet with the Administrator and Region IV staff on items of mutual interest. The subcommittee will gather information, analyze relevant issues and facts, and formulate proposed positions and actions, as appropriate, for deliberation by the Full Committee at a later date.

Members of the public desiring to provide oral statements and/or written comments should notify the Designated Federal Official (DFO), Mrs. Kathy Weaver, via e-mail Kathy.Weaver@nrc.gov) five days prior to the meeting, if possible, so that appropriate arrangements can be made. Thirty-five hard copies of each presentation or handout should be provided to the DFO thirty minutes before the meeting. Presenters should also provide the DFO with a CD containing each presentation at least 30 minutes before the meeting. Electronic recordings will be permitted. Detailed procedures for the conduct of and participation in ACRS meetings were published in the Federal Register on October 14, 2009 (74 FR 58268-58269).

Detailed meeting agendas and meeting transcripts are available on the NRC Web site at http://www.nrc.gov/reading-rm/doc-collections/acrs. Information regarding topics to be discussed, changes to the agenda, whether the meeting has been canceled or rescheduled, and the time allotted to present oral statements can be obtained from the Web site cited above or by contacting the identified DFO. Moreover, in view of the possibility that the schedule for ACRS meetings may be adjusted by the Chairman as necessary to facilitate the conduct of the meeting, persons planning to attend should check with these references if such rescheduling would result in a major inconvenience.

Date: June 23, 2010.
Cayetano Santos,
Chief, Reactor Safety Branch A, Advisory Committee on Reactor Safeguards.

[FR Doc. 2010-16183 Filed 7-1-10; 8:45 am]

BILLING CODE 7590-01-P